DEPARTMENT OF AGRICULTURE

Forest Service

Coeur d'Alene River Ranger District Small Sales Final EIS Revision, Idaho Panhandle National Forests, Kootenai and Shoshone Counties, Idaho

AGENCY: Forest Service, USDA.

ACTION: Notice; intent to prepare a revised final environmental impact statement.

SUMMARY: The Forest Service will prepare a revised final environmental impact statement (FEIS) to further analyze and disclose the cumulative environmental effects of utilizing timber harvest in numerous small, specific areas of the Coeur d'Alene River Ranger District. The intent of the project is to salvage merchantable timber in stands damaged by ice storms, insect infestation and disease, and to reduce the level of fire risk to the National Forest and to private lands adjacent to National Forest lands.

DATES: Comments concerning the scope of the revision should be received in writing by February 12, 2001.

ADDRESSES: Send written comments to Coeur d'Alene River Ranger District, 2502 East Sherman Avenue, Coeur d'Alene, Idaho, 83814-5899.

FOR FURTHER INFORMATION CONTACT: Bob Rehnborg (Project Team Leader) or Kerry Arneson (NEPA Coordinator) at (208) 769-3000.

SUPPLEMENTARY INFORMATION: A final environmental impact statement and record of decision were issued in July 2000. The decision was appealed. Upon review, the Appeal Deciding Officer reversed the decision, citing inadequate documentation of cumulative effects analysis. The intent of the revised FEIS is to provide the necessary documentation of cumulative effects in relation to the Small Sales project.

While public participation in this analysis is welcome at any time, comments received within 30 days of the publication of this notice will be especially useful in the preparation of the revision, which is expected to be filed with the Environmental Protection Agency and available for public review in February 2001. The comment period on the revised FEIS will end 45 days from the date the Environmental Protection Agency publishes the notice of availability of the revised FEIS in the Federal Register. In addition, the public is encouraged to visit with Forest Service officials at any time during the analysis and prior to the decision.

A new decision is anticipated in April 2001. The decision will identify if, when, how and where to schedule activities to meet these goals. The USDA Forest Service is the lead agency for this proposal. Acting District Ranger Jose Castro is the responsible official.

The Forest Service believes it is important at this early stage to give reviewers notice of several court rulings related to public participation in the environmental review process. First, reviewers must structure their participation in the environmental review of the proposal so that it is meaningful and alerts an agency to the reviewer's position and contentions. Vermont Yankee Nuclear Power Corp. v. NRDS, 435 U.S. 519, 533 (1978). Also, environmental objections that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them.

Comments on the revised FEIS should be as specific as possible. It is also helpful if comments refer to specific pages or chapters. Comments may also address the adequacy of the revised FEIS or the merits of the alternatives formulated and discussed in the revised FEIS. Reviewers may wish to refer to the Council on Environmental Quality Regulations for implementing the procedural provisions of the National Environmental Policy Act at 40 CFR 1503.3 in addressing these points.

Dated: January 2, 2001.
Jose Castro,
Acting District Ranger.

[FR Doc. 01-1003 Filed 1-11-01; 8:45 am]

BILLING CODE 3410-11-M